DEPARTMENT OF ENERGY

Federal Energy Regulatory Commission

[Docket No. OR08-4-000]

Valero Marketing and Supply Company Complainant, v. Longhorn Pipeline Partners and Flying J, Inc. Respondents; Notice of Complaint

December 4, 2007.

Take notice that on November 30, 2007, Valero Marketing and Supply Company (VMSC), tendered for filing with the Federal Energy Regulatory Commission a complaint against Longhorn Pipeline Partners (Longhorn) and Flying J, Inc., (Flying J), for undue discrimination and unreasonable preferential treatment of an affiliate in the transportation of refined petroleum products on Longhorn's common carrier pipeline. VMSC alleges that Longhorn, acting in concert with its affiliate owner, Flying J, engaged in unduly preferential and abusive affiliate activity and unreasonably discriminated against VMSC, resulting in an undue economic advantage, by refusing to provide common carrier transportation services to VMSC in violation of the Interstate Commerce Act. VMSC therefore requests that the Commission set this complaint for investigation, discovery, and hearing and that reparations and damages be awarded to compensate VMSC for injuries incurred as a result of Longhorn's and Flying J's unlawful and illegal actions. In addition, VMSC requests the Commission order disgorgement of all improper profits and benefits obtained by Flying J as a result of the complained of activity.

VMSC states that copies of the complaint were served on Longhorn and Flying J.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 20, 2007.

Kimberly D. Bose,
Secretary.

[FR Doc. E7-24029 Filed 12-11-07; 8:45 am]

BILLING CODE 6717-01-P